DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: Patent No. 7,810,498: VOLUME EXPANSION SYSTEM FOR BREATHING GAS IN CLOSED-CIRCUIT BREATHING//Patent No. 7,813,529: OPTICAL 3-D SURFACE TOMOGRAPHY USING DEPTH FROM FOCUS OF PARTIALLY OVERLAPPING 2-D IMAGES//Patent No. 7,905,527: HARNESS ASSEMBLY FOR USE IN UNDERWATER RECOVERY OPERATIONS//Patent No. 7,932,718: SYSTEM AND METHOD USING MAGNETIC ANOMALY FIELD MAGNITUDES FOR DETECTION, LOCALIZATION, CLASSIFICATION AND TRACKING OF MAGNETIC OBJECTS//

ADDRESSES: Requests for copies of the patents cited should be directed to Office of Counsel, Naval Surface Warfare Center Panama City Division, 110 Vernon Ave., Panama City, FL 32407-7001.

FOR FURTHER INFORMATION CONTACT: Mr. James Shepherd, Patent Counsel, Naval Surface Warfare Center Panama City Division, 110 Vernon Ave., Panama City, FL 32407-7001, telephone 850-234-4646.

Authority: 35 U.S.C. 207, 37 CFR part 404.

Dated: October 3, 2012.
C.K. Chiappetta,
Lieutenant Commander, Office of the Judge Advocate General, U.S. Navy, Federal Register Liaison Officer.

[FR Doc. 2012-24967 Filed 10-10-12; 8:45 am]

BILLING CODE 3810-FF-P